DEPARTMENT OF ENERGY

Federal Energy Regulatory Commission

Combined Notice of Filings #1

April 22, 2008.

Take notice that the Commission received the following electric corporate filings:

Docket Numbers: EC08-67-000.

Applicants: LS Power Development, LLC; Luminus Management, LLC.

Description: LS Power Development, LLC and Luminus Management, LLC submit a supplement to their joint application submitted 4/8/08.

Filed Date: 04/17/2008.

Accession Number: 20080418-0285.

Comment Date: 5 p.m. Eastern Time on Thursday, May 8, 2008.

Take notice that the Commission received the following exempt wholesale generator filings:

Docket Numbers: EG08-64-000.

Applicants: Valencia Power, LLC.

Description: Self Certification Notice of Valencia Power, LLC as an Exempt Wholesale Generator.

Filed Date: 04/21/2008.

Accession Number: 20080421-5188.

Comment Date: 5 p.m. Eastern Time on Monday, May 12, 2008.

Take notice that the Commission received the following electric rate filings:

Docket Numbers: ER01-48-009.

Applicants: Powerex Corp.

Description: Power Corp submits an update to its Notice of a Non-Natural Change in Status.

Filed Date: 04/16/2008.

Accession Number: 20080417-0184.

Comment Date: 5 p.m. Eastern Time on Wednesday, May 7, 2008.

Docket Numbers: ER03-770-003.

Applicants: AIG Energy Inc.

Description: AIG Energy, Inc submits a notice of non-material change in status.

Filed Date: 04/17/2008.

Accession Number: 20080421-0001.

Comment Date: 5 p.m. Eastern Time on Thursday, May 8, 2008.

Docket Numbers: ER03-774-007.

Applicants: Eagle Energy Partners I, LP

Description: Eagle Energy Partners I, LP submits Notice of Non-Material Change in Status from the characteristics upon which FERC relied in granting Eagle market-based rate authority concerning an Energy Management Agreement etc.

Filed Date: 04/17/2008.

Accession Number: 20080421-0010.

Comment Date: 5 p.m. Eastern Time on Thursday, May 8, 2008.

Docket Numbers: ER04-1215-002.

Applicants: Anthracite Power and Light Company.

Description: Anthracite Power and Light Co submits additional information re its exemption from submitting any regularly scheduled market power analysis etc.

Filed Date: 04/18/2008.

Accession Number: 20080421-0055.

Comment Date: 5 p.m. Eastern Time on Friday, May 9, 2008.

Docket Numbers: ER05-665-004.

Applicants: Barrick Goldstrike Mines Inc.

Description: Triennial Report and Request for Finding of Category 1 Seller of Barrick Goldstrike Mines Inc.

Filed Date: 04/21/2008.

Accession Number: 20080421-5172.

Comment Date: 5 p.m. Eastern Time on Monday, May 12, 2008.

Docket Numbers: ER06-1555-002.

Applicants: Entergy Services, Inc.

Description: Entergy Operating Companies submits Settlement Agreement with the Cleco Power, LLC et al. in compliance with FERC's 3/17/08 Order.

Filed Date: 04/16/2008.

Accession Number: 20080417-0030.

Comment Date: 5 p.m. Eastern Time on Wednesday, May 7, 2008.

Docket Numbers: ER08-441-003.

Applicants: Velocity American Energy Master I, L.P.

Description: Velocity American Energy Master I, LP submits Substitute Original Sheet 1 to FERC Electric Tariff, Original Volume 1.

Filed Date: 04/16/2008.

Accession Number: 20080417-0032.

Comment Date: 5 p.m. Eastern Time on Wednesday, May 7, 2008.

Docket Numbers: ER08-518-001.

Applicants: Southern California Edison Company.

Description: Southern California Edison submits a revised rate sheet to its Transmission Owner Tariff, FERC Electric Tariff, Second Revised Volume 6.

Filed Date: 04/18/2008.

Accession Number: 20080421-0003.

Comment Date: 5 p.m. Eastern Time on Friday, May 9, 2008.

Docket Numbers: ER08-589-001.

Applicants: Edison Mission Solutions, L.L.C.

Description: Edison Mission Solutions LLC supplements the notice of succession filed on 2/22/08 and request that its First Revised Rate Schedule FERC 1 be made effective on 2/23/08.

Filed Date: 04/18/2008.

Accession Number: 20080422-0045.

Comment Date: 5 p.m. Eastern Time on Friday, May 9, 2008.

Docket Numbers: ER08-797-001.

Applicants: HEEP Fund Inc.

Description: HEEP Fund Inc. request for additional information and tariff amendments.

Filed Date: 04/16/2008.

Accession Number: 20080418-0256.

Comment Date: 5 p.m. Eastern Time on Wednesday, May 7, 2008.

Docket Numbers: ER08-832-000.

Applicants: ISO New England Inc.

Description: ISO New England, Inc. et al. submits proposed revisions to Section II of the ISO Tariff to comply with FERC's Order 890-A.

Filed Date: 04/15/2008.

Accession Number: 20080417-0198.

Comment Date: 5 p.m. Eastern Time on Tuesday, May 6, 2008.

Docket Numbers: ER08-833-001.

Applicants: Progress Energy Service Company; Florida Power & Light Company.

Description: Florida Power & Light Co's Certificate of Concurrence re Rate Schedule 200—Facilities Interconnection Agreement with Orlando Utilities Commission.

Filed Date: 04/18/2008.

Accession Number: 20080421-0002.

Comment Date: 5 p.m. Eastern Time on Friday, May 9, 2008.

Docket Numbers: ER08-833-000.

Applicants: Progress Energy Service Company.

Description: Progress Energy Services Co et al. submits an executed 230 kV Facilities Interconnection Agreement with Florida Power Corp.

Filed Date: 04/16/2008.

Accession Number: 20080417-0029.

Comment Date: 5 p.m. Eastern Time on Wednesday, May 7, 2008.

Docket Numbers: ER08-834-000.

Applicants: New York Independent System Operator, Inc.

Description: New York Independent System Operator, Inc's proposed amendments to certain Market Power Mitigation Measures set forth in Attachment H to its Market Administration and Control Area Services Tariff etc.

Filed Date: 04/16/2008.

Accession Number: 20080417-0033.

Comment Date: 5 p.m. Eastern Time on Wednesday, May 7, 2008.

Docket Numbers: ER08-836-000.

Applicants: Champion Energy Marketing LLC.

Description: Champion Energy Marketing LLC submits an application for market-based rate authority.

Filed Date: 04/16/2008.

Accession Number: 20080418-0255.

Comment Date: 5 p.m. Eastern Time on Wednesday, May 7, 2008.

Docket Numbers: ER08-837-000.

Applicants: PJM Interconnection, L.L.C.

Description: PJM Interconnection, LLC submits amendments to Schedule 12—Appendix under ER08-837.

Filed Date: 04/16/2008.

Accession Number: 20080418-0254.

Comment Date: 5 p.m. Eastern Time on Wednesday, May 7, 2008.

Docket Numbers: ER08-838-000.

Applicants: Affordable Power, L.P.

Description: Affordable Power LP submits the Application for Market-Based Rate Authorization and Request for Waivers, Blanket Authorizations, and Expedited Action.

Filed Date: 04/16/2008.

Accession Number: 20080418-0253.

Comment Date: 5 p.m. Eastern Time on Wednesday, May 7, 2008.

Docket Numbers: ER08-839-000.

Applicants: Northeast Utilities Service Company.

Description: NU Companies submits Notices of Cancellation to terminate certain transmission service agreements under the NU Companies' open-access transmission tariff.

Filed Date: 04/17/2008.

Accession Number: 20080418-0252.

Comment Date: 5 p.m. Eastern Time on Thursday, May 8, 2008.

Docket Numbers: ER08-840-000.

Applicants: Xcel Energy Services, Inc.

Description: Xcel Energy Services, Inc on behalf of Northern States Power Co submits a Notice of Termination of the Municipal Transmission Service Agreement etc.

Filed Date: 04/17/2008.

Accession Number: 20080418-0257.

Comment Date: 5 p.m. Eastern Time on Thursday, May 8, 2008.

Docket Numbers: ER08-841-000.

Applicants: PJM Interconnection, L.L.C.

Description: PJM Interconnection, LLC submits revisions to the PJM Open Access Transmission Tariff and Operating Agreement.

Filed Date: 04/17/2008.

Accession Number: 20080421-0004.

Comment Date: 5 p.m. Eastern Time on Thursday, May 8, 2008.

Docket Numbers: ER08-842-000.

Applicants: New York Independent System Operator, Inc.

Description: New York Independent System Operator, Inc. submits revisions to its Open Access Transmission Tariff etc.

Filed Date: 04/17/2008.

Accession Number: 20080421-0005.

Comment Date: 5 p.m. Eastern Time on Thursday, May 8, 2008.

Docket Numbers: ER08-843-000.

Applicants: Public Service Company of New Mexico.

Description: Public Service Company of New Mexico submits a Contract for Capital Construction and Interconnection at Tri-State's Willard 115kV Switching Station dated 4/17/08 between itself and Tri-State Generation and Transmission Association Inc.

Filed Date: 04/18/2008.

Accession Number: 20080421-0006.

Comment Date: 5 p.m. Eastern Time on Friday, May 9, 2008.

Docket Numbers: ER08-844-000.

Applicants: Entergy Services, Inc.

Description: Entergy Mississippi Inc. submits a Notice of Termination of the executed Interconnection and Operating Agreement and Generator Imbalance Agreement filed on 8/11/00 with Gen Power McAdams LLC etc.

Filed Date: 04/18/2008.

Accession Number: 20080421-0007.

Comment Date: 5 p.m. Eastern Time on Friday, May 9, 2008.

Docket Numbers: ER08-845-000.

Applicants: Entergy Services, Inc.

Description: Entergy Operating Companies submits a mutually-executed Dynamic Transfer Operating Agreement designated as ESI Service Agreement 498 under FERC Electric Tariff, Second Revised Volume 3 etc.

Filed Date: 04/18/2008.

Accession Number: 20080421-0008.

Comment Date: 5 p.m. Eastern Time on Friday, May 9, 2008.

Docket Numbers: ER08-846-000.

Applicants: Arizona Public Service Company.

Description: Arizona Public Service Company submits First Revised Sheet 1 and 2 to the APS FERC Electric Tariff, Volume 5.

Filed Date: 04/16/2008.

Accession Number: 20080421-0009.

Comment Date: 5 p.m. Eastern Time on Wednesday, May 7, 2008.

Docket Numbers: ER08-847-000.

Applicants: Union Electric Company.

Description: Ameren UE submits an amendment to the Interchange Agreement between Union Electric Company and Entergy Arkansas Inc. in order to terminate one of the Delivery Points sets forth in Appendix I etc.

Filed Date: 04/18/2008.

Accession Number: 20080422-0046.

Comment Date: 5 p.m. Eastern Time on Friday, May 9, 2008.

Docket Numbers: ER08-848-000.

Applicants: GearyEnergy, LLC.

Description: GearyEnergy, LLC submits Petition for Acceptance of Initial Tariff, Waivers and Blanket Authority, FERC Electric Tariff, Original Volume 1 under which it will engage in wholesale sales of electric energy & capacity etc.

Filed Date: 04/18/2008.

Accession Number: 20080422-0047.

Comment Date: 5 p.m. Eastern Time on Friday, May 9, 2008.

Docket Numbers: ER08-849-000.

Applicants: Arizona Public Service Company.

Description: Arizona Public Service Company submits Amendment 1 to the currently effective Interconnection and Operating Agreement with Gila River Power, LP etc.

Filed Date: 04/18/2008.

Accession Number: 20080422-0048.

Comment Date: 5 p.m. Eastern Time on Friday, May 9, 2008.

Docket Numbers: ER08-850-000.

Applicants: New York Independent System Operator, Inc.

Description: New York Independent System Operator, Inc. submits proposed revisions to its Market Administration and Control Area Services Tariff and its Open Access Transmission Tariff etc.

Filed Date: 04/16/2008.

Accession Number: 20080422-0049.

Comment Date: 5 p.m. Eastern Time on Wednesday, May 7, 2008.

Docket Numbers: ER96-1947-022; ER03-160-008; ER02-900-008; ER02-1052-008.

Applicants: LS Power Marketing, LLC; Las Vegas Power Company, LLC; Sugar Creek Power Company, LLC; West Georgia Generating Company, LLC.

Description: Notification of change of status re LS Power Marketing LLC et al.

Filed Date: 04/18/2008.

Accession Number: 20080422-0044.

Comment Date: 5 p.m. Eastern Time on Friday, May 9, 2008.

Take notice that the Commission received the following electric securities filings:

Docket Numbers: ES08-44-000.

Applicants: El Paso Electric Company.

Description: Application of El Paso Electric Company for Authorization Under Section 204 of the Federal Power Act for Issuance of Long-Term Bonds.

Filed Date: 04/17/2008.

Accession Number: 20080417-5099.

Comment Date: 5 p.m. Eastern Time on Thursday, May 8, 2008.

Take notice that the Commission received the following open access transmission tariff filings:

Docket Numbers: OA07-43-003.

Applicants: Arizona Public Service Company.

Description: Arizona Public Service Company's Annual Compliance Report on Penalty Assessments and Distribution as Required by Order Nos. 890 and 890-A.

Filed Date: 04/17/2008.

Accession Number: 20080421-5102.

Comment Date: 5 p.m. Eastern Time on Thursday, May 8, 2008.

Docket Numbers: OA07-53-003.

Applicants: Progress Energy, Inc.

Description: Annual Informational Filing of Penalty Revenues Distribution for Carolina Power & Light Company and Florida Power Corporation.

Filed Date: 04/17/2008.

Accession Number: 20080418-5023.

Comment Date: 5 p.m. Eastern Time on Thursday, May 8, 2008.

Docket Numbers: OA07-25-003.

Applicants: Duke Energy Carolinas, LLC.

Description: Order No. 890 Penalty Refund Report OATT Filing of Duke Energy Carolinas, LLC.

Filed Date: 04/16/2008.

Accession Number: 20080417-5029.

Comment Date: 5 p.m. Eastern Time on Wednesday, May 7, 2008.

Docket Numbers: OA08-106-000.

Applicants: Midwest Independent Transmission System.

Description: Midwest Independent Transmission System Operator, Inc submits the FPA Section 206 Compliance Filing of Non-Rate Terms and Conditions as set forth in Order 890-A.

Filed Date: 04/15/2008.

Accession Number: 20080417-0037.

Comment Date: 5 p.m. Eastern Time on Tuesday, May 6, 2008.

Docket Numbers: OA08-109-000.

Applicants: New York Independent System Operator, Inc.

Description: Annual Compliance Report of the New York Independent System Operator, Inc. Regarding Unreserved Use and Late Study Penalties.

Filed Date: 04/18/2008.

Accession Number: 20080418-5188.

Comment Date: 5 p.m. Eastern Time on Friday, May 9, 2008.

Docket Numbers: OA08-111-000.

Applicants: Portland General Electric Company.

Description: Annual Informational Filing on Operational Penalty Assessments and Distributions as Required by Order Nos. 890 and 890-A.

Filed Date: 04/18/2008.

Accession Number: 20080421-5095.

Comment Date: 5 p.m. Eastern Time on Friday, May 9, 2008.

Docket Numbers: OA08-96-001.

Applicants: Southern Company Services, Inc.

Description: Southern Company Services, Inc. Annual Report of Penalty Assessments and Distributions in accordance with Order Nos. 890 and 890-A.

Filed Date: 04/18/2008.

Accession Number: 20080418-5115.

Comment Date: 5 p.m. Eastern Time on Friday, May 9, 2008.

Docket Numbers: OA08-97-001.

Applicants: MidAmerican Energy Company.

Description: Annual Informational Report on Penalty Assessments and Distributions as required by Order Nos. 890 and 890-A of MidAmerican Energy Company.

Filed Date: 04/18/2008.

Accession Number: 20080418-5121.

Comment Date: 5 p.m. Eastern Time on Friday, May 9, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-9543 Filed 4-30-08; 8:45 am]

BILLING CODE 6717-01-P